FEDERAL COMMUNICATIONS COMMISSION

47 CFR Part 73

[DA 01-1538; MM Docket No. 01-63; RM-10075]

Radio Broadcasting Services; Kingman and Dolan Springs, AZ

AGENCY: Federal Communications Commission.

ACTION: Final rule.

SUMMARY: In response to a proposal filed on behalf of Hualapai Broadcasters, Inc., licensee of Station KRCY(FM), Kingman, Arizona, the Commission substitutes Channel 224C for Channel 224C1 at Kingman, reallots Channel 224C to Dolan Springs, Arizona, as that community's second local aural transmission service, and modifies the license for Station KRCY(FM) accordingly pursuant to the provisions of Section 1.420(i) of the Commission's Rules. See 66 FR 14871, March 14, 2001. Coordinates used for Channel 224C at Dolan Springs 35-35-31 NL and 114-16-21 WL

DATES: Effective August 13, 2001.

FOR FURTHER INFORMATION CONTACT: Nancy Joyner, Mass Media Bureau, (202) 418-2180.

SUPPLEMENTARY INFORMATION: This is a synopsis of the Commission's Report and Order, MM Docket No. 01-63, adopted June 20, 2001, and released June 29, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Arizona, is amended by adding Channel 224C at Dolan Springs and by removing Channel 224C1 at Kingman.

Federal Communications Commission.
John A. Karousos,
Chief, Allocations Branch, Policy and Rules Division, Mass Media Bureau.

[FR Doc. 01-17635 Filed 7-13-01; 8:45 am]

BILLING CODE 6712-01-P